INTERNATIONAL TRADE COMMISSION

[Investigation No. AGOA-002]

Denim Fabric: Use in AGOA Countries During Fiscal Year 2007

AGENCY: United States International Trade Commission.

ACTION: Institution of investigation and scheduling of hearing; change in numbering format for AGOA reports.

SUMMARY: Pursuant to section 112(c)(2)(B)(iii) of the African Growth and Opportunity Act (AGOA) (19 U.S.C. 3721(c)(2)(B)(iii)), the Commission has instituted investigation No. AGOA-002, Denim Fabric: Use in AGOA Countries During Fiscal Year 2007, for the purpose of gathering information and making the determination required concerning the extent to which denim fabric deemed to be available in commercial quantities during fiscal year 2007 for use by lesser developed beneficiary (LDB) sub-Saharan African (SSA) countries was used in the production of apparel articles receiving preferential treatment during fiscal year 2007.

DATES: December 3, 2007: Institution of investigation.

March 18, 2008: Deadline for filing request to appear at the public hearing.

March 21, 2008: Deadline for filing pre-hearing briefs and statements.

April 9, 2008: Public hearing.

April 23, 2008: Deadline for filing post-hearing briefs and statements.

April 28, 2008: Deadline for filing all other written submissions.

July 1, 2008: Transmittal of Commission report to the President and U.S. Trade Representative.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project leaders Justino de la Cruz (202-205-3252 or justino.delacruz@usitc.gov) or Dawn Heuschel (202-205-2577 or dawn.heuschel@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: On December 20, 2006, the President signed into law amendments to section 112(c) of the African Growth and Opportunity Act (AGOA) (19 U.S.C. 3721(c)), included in Public Law 109-432. The amendments require the Commission to make certain determinations relating to the commercial availability of regional fabric or yarn for use in LDB SSA countries in apparel articles receiving U.S. preferential treatment under AGOA, and also require the Commission to make determinations with regard to the extent that the quantity of fabric or yarn determined to be so available was so used. Section 112(c)(2)(C) of AGOA deemed denim fabric provided for in subheading 5209.42.00 of the Harmonized Tariff Schedule of the United States to be available in the amount of 30 million square meter equivalents for such purposes during the period October 1, 2006-September 30, 2007 (fiscal year 2007). Section 112(c)(2)(B)(iii) of AGOA now requires the Commission to determine the extent to which the denim fabric deemed to be available during fiscal year 2007 was used in the production of apparel articles receiving preferential treatment under AGOA that were entered during fiscal year 2007. The Commission expects to transmit its determination and report to the President and the U.S. Trade Representative on or before July 1, 2008.

The Commission has also re-designated the recently completed investigation No. AGOA-07-001, Commercial Availability of Fabric & Yarns in AGOA Countries: Certain Denim, as investigation No. AGOA-001, Commission Publication 3950, September 2007. This change was made principally for the purpose of facilitating docketing and public searches through the Commission's EDIS system.

The Commission will institute a separate investigation in the near future for the purpose of gathering information and making determinations concerning whether such denim fabric will be available in commercial quantities during fiscal year 2009 for use in LDB SSA countries in the production of apparel articles receiving preferential treatment under AGOA, and if so, the quantity that will be available. This investigation will be designated as investigation No. AGOA-003. The Commission made similar determinations with respect to availability during fiscal year 2008 in recently completed investigation No. AGOA-001.

Public Hearing: A public hearing in connection with this investigation will be held at the U.S. International Trade Commission Building, 500 E Street, SW., Washington, DC, beginning at 9:30 a.m. on April 9, 2008. To facilitate attendance at the hearing by parties also interested in attending the hearing in investigation No. AGOA-003, the Commission will hold a consolidated hearing for both investigations. Requests to appear at the public hearing should be filed with the Secretary, no later than 5:15 p.m., March 18, 2008, in accordance with the requirements in the “Submissions” section below. All pre-hearing briefs and statements should be filed not later than 5:15 p.m., March 21, 2008; and all post-hearing briefs and statements should be filed not later than 5:15 p.m., April 23, 2008. In the event that, as of the close of business on March 18, 2008, no witnesses are scheduled to appear at the hearing, the hearing will be canceled. Any person interested in attending the hearing as an observer or nonparticipant may call the Secretary to the Commission (202-205-2000) after March 18, 2008, for information concerning whether the hearing will be held.

Written Submissions: In lieu of or in addition to participating in the hearing, interested parties are invited to submit written statements concerning this investigation. All written submissions should be addressed to the Secretary. All written submissions (except for requests to appear at the hearing and pre- and post-hearing briefs and statements with earlier due dates) should be received not later than 5:15 p.m., April 28, 2008. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include some or all of the confidential business information submitted in the course of this investigation in the report it sends to the President and the U.S. Trade Representative. After transmitting its report, the Commission intends to publish a public version of its report, with any confidential business information deleted. Any confidential business information received by the Commission in this investigation and used in preparing this report will not be published in the public version of the report in a manner that would reveal the operations of the firm supplying the information.

By order of the Commission.
Issued: November 28, 2007.
Marilyn R. Abbott,
Secretary to the Commission.

[FR Doc. E7-23356 Filed 11-30-07; 8:45 am]

BILLING CODE 7020-02-P